ENVIRONMENTAL PROTECTION AGENCY

40 CFR Part 52

[EPA-R04-OAR-2021-0618; FRL-9242-01-R4]

Air Plan Approval; North Carolina; Volatile Organic Compound Regulations

AGENCY: Environmental Protection Agency (EPA).

ACTION: Proposed rule.

SUMMARY: The Environmental Protection Agency (EPA) is proposing to approve a State Implementation Plan (SIP) revision to the North Carolina SIP, submitted by the State of North Carolina through the North Carolina Department of Environmental Quality (NCDEQ), Division of Air Quality (NCDAQ), via a letter dated April 13, 2021. This SIP revision updates several NCDEQ air regulations which apply to sources that emit volatile organic compounds (VOC).

DATES: Comments must be received on or before July 13, 2023.

ADDRESSES: Submit your comments, identified by Docket ID No. EPA-R04-OAR-2021-0618 at www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit www2.epa.gov/dockets/commenting-epa-dockets.

FOR FURTHER INFORMATION CONTACT: Jane Spann, Air Regulatory Management Section, Air Planning and Implementation Branch, Air and Radiation Division, U.S. Environmental Protection Agency, Region 4, 61 Forsyth Street SW, Atlanta, Georgia 30303-8960. Ms. Spann can be reached via electronic mail at spann.jane@epa.gov or via telephone at (404) 562-9029.

SUPPLEMENTARY INFORMATION:

I. What action is EPA proposing to take?

EPA is proposing to approve changes to North Carolina's SIP that were provided to EPA through NCDAQ via a letter dated April 13, 2021.¹ Specifically, EPA is proposing to approve changes to 15A North Carolina Administrative Code (NCAC) Subchapter 02D, Section .0900, Volatile Organic Compounds (hereinafter referred to as Section .0900).² The April 13, 2021, revision to the North Carolina SIP transmits a few substantive changes and a number of changes that do not alter the meaning of the regulations such as clarifying changes, updated cross-references, and several ministerial language changes. In addition, other changes include adding, deleting, and editing definitions and adding SIP-strengthening language.

¹ EPA notes that the submittal was received through the State Planning Electronic Collaboration System (SPeCS) on April 14, 2021. For clarity, this notice will refer to the submittal by the date on the cover letter, which is April 13, 2021.

² EPA notes that the Agency received several submittals revising the North Carolina SIP that were transmitted with the same April 13, 2021, cover letter. EPA has considered will be considering action for these other SIP revisions in separate rulemakings.

II. EPA's Analysis of the State's Submittal

North Carolina's Section .0900 rules regulate sources that emit greater than or equal to 15 pounds of VOC per day, unless otherwise specified in Section .0900. Most of the SIP changes to Section .0900 are ministerial and formatting changes, with clarifying changes throughout. EPA is proposing to approve the changes to Rules .0901, Definitions; .0902, Applicability; .0903, Recordkeeping: Reporting: Monitoring; .0906, Circumvention; .0909, Compliance Schedules for Sources in Ozone Nonattainment and Maintenance Areas; .0912, General Provisions on Test Methods and Procedures; .0918, Can Coating; .0919, Coil Coating; .0922, Metal Furniture Coatings; .0923, Surface Coating of Large Appliance Parts; .0924, Magnet Wire Coating; .0925, Petroleum Liquid Storage in Fixed Roof Tanks; .0928, Gasoline Service Stations Stage 1; .0930, Solvent Metal Cleaning; .0931, Cutback Asphalt; .0933, Petroleum Liquid Storage in External Floating Roof Tanks; .0935, Factory Surface Coating of Flat Wood Paneling; .0937, Manufacture of Pneumatic Rubber Tires; .0943, Synthetic Organic Chemical and Polymer Manufacturing; .0944, Manufacture of Polyethylene: Polypropylene and Polystyrene; .0945 Petroleum Dry Cleaning; .0947, Manufacture of Synthesized Pharmaceutical Products; .0948, VOC Emissions from Transfer Operations; .0949, Storage of Miscellaneous Volatile Organic Compounds; .0951, RACT For Sources of Volatile Organic Compounds; .0955, Thread Bonding Manufacturing; .0956, Glass Christmas Ornament Manufacturing; .0957, Commercial Bakeries; .0961, Offset Lithographic Printing and Letterpress Printing; .0962, Industrial Cleaning Solvents; .0963, Fiberglass Boat Manufacturing Materials; .0964, Miscellaneous Industrial Adhesives; .0965, Flexible Package Printing; .0966, Paper, Film and Foil Coatings; .0967, Miscellaneous Metal and Plastic Parts Coatings; and .0968, Automobile and Light Duty Truck Assembly Coatings.³ EPA's analysis of each aforementioned rule change included in the April 13, 2021, SIP revision is below:

³ Hereinafter, the North Carolina Rules will be identified by “Rule” and the accompanying number, e.g., Rule .0901.

a. Rule .0901, Definitions

Rule .0901 includes definitions that apply to Section .0900 rules. The April 13, 2021, revision does not include any substantive changes to Rule .0901 but includes only minor wording, formatting, administrative and technical changes, e.g., in the definition of “loading rack,” changing a reference to “tank truck or trailer” to “cargo tank,” which corresponds to the addition of the definition of “cargo tank” in Rule .0926.⁴ Changes to Rule .0901 also include updates to American Society for Testing and Materials (ASTM) and American Petroleum Institute (API) bulletin references that are appropriate because the references have become outdated, incorporation by reference of an API document, and an update to the formatting of rule references.

⁴ Changes to Rule .0926 submitted with the April 13, 2021, cover letter will be considered for action in a separate rulemaking.

The State of North Carolina originally adopted Rule .0901 in 1979. EPA most recently approved amendments to the state rule in North Carolina's SIP on May 9, 2013. See 78 FR 27065. EPA is proposing to approve the April 13, 2021, SIP revision with respect to Rule .0901 because, as minor, non-substantive changes, they will not impact air quality and thus will not interfere with any applicable Clean Air Act (CAA or Act) requirements.⁵

⁵ Section 110(l) of the CAA prohibits EPA from approving a SIP revision that would interfere with any applicable requirement concerning attainment and reasonable further progress (as defined in section 171), or any other applicable requirement of the Act.

b. Rule .0902, Applicability

Rule .0902 outlines the applicability parameters for Section .0900 rules. The April 13, 2021, revision does not include any substantive changes to Rule .0902 but includes minor changes to update the formatting of rule references and makes minor wording changes including changing “truck tanks” to “cargo tanks,” which corresponds to the addition of the definition of “cargo tank” in Rule .0926.⁶ Rule .0902(c) is changed to refer to exclusions found in Rule .0902(d) instead of Rule .0902(d)(1). Rule .0902(d)(2) is not currently approved into the North Carolina SIP. Because the Rule .0902(d) reference effectively includes only Rule .0902(d)(1) for SIP purposes, EPA is proposing to approve the revised version of Rule .0902(c) except as it refers to Rule .0902(d)(2). Also, Rule .0902(f) adds the date January 2, 2014, for clarification related to identifying certain moderate nonattainment areas required to address Control Technique Guidelines (CTGs).

⁶ See n.4.

The State of North Carolina originally adopted Rule .0902 in 1979. EPA most recently approved amendments to the state rule in North Carolina's SIP on July 25, 2013. See 78 FR 44890. EPA is proposing to approve the April 13, 2021, updates to Rule .0902 because, as minor, non-substantive changes, they will not impact air quality and thus they will not interfere with any applicable CAA requirements.

c. Rule .0903, Recordkeeping: Reporting: Monitoring

Rule .0903 outlines the recordkeeping, reporting, and monitoring requirements for Section .0900 rules. The April 13, 2021, revision does not include substantive changes to Rule .0903 but only makes minor grammatical edits and updates the formatting of a rule reference. These changes clarify the meaning of the previously SIP-approved version of the rule.

EPA most recently incorporated updates to Rule .0903 into the North Carolina SIP on July 25, 2013. See 78 FR 44890. EPA is proposing to approve the updates to Rule .0903 because, as minor, non-substantive changes, they will not impact air quality and thus they will not interfere with any applicable CAA requirements.

d. Rule .0906, Circumvention

Rule .0906 outlines the restriction of concealing VOC emissions related to the Section .0900 rules. The April 13, 2021, revision does not include substantive changes to Rule .0906 but includes minor grammatical edits. These edits clarify but do not change the meaning of the previously SIP-approved version.

The State of North Carolina originally adopted Rule .0906 in 1979. EPA most recently approved amendments to the state rule in North Carolina's SIP on December 19, 1986. See 51 FR 45468. EPA is proposing to approve the April 13, 2021, updates to Rule .0906 because, as minor, non-substantive changes, they will not impact air quality and thus they will not interfere with any applicable CAA requirements.

e. Rule .0909, Compliance Schedules for Sources in Ozone Nonattainment and Maintenance Areas

Rule .0909 outlines compliance schedules for sources in ozone nonattainment areas and those nonattainment areas that have been redesignated to attainment (i.e., maintenance areas), as they relate to the Section .0900 rules. The April 13, 2021, revision does not include substantive changes to Rule .0909 but includes minor grammatical and wording edits and updates the formatting of rule references. These changes clarify but do not change the meaning of the previously SIP-approved version of the rule.

The State of North Carolina originally adopted Rule .0909 in 1979. EPA most recently approved amendments to the state rule in North Carolina's SIP on July 25, 2013. See 78 FR 44890. EPA is proposing to approve the April 13, 2021, updates to Rule .0909 because, as minor, non-substantive changes, they will not impact air quality and thus they will not interfere with any applicable CAA requirements.

f. Rule .0912, General Provisions on Test Methods and Procedures

Rule .0912 outlines general provisions on test methods and procedures related to Section .0900 rules. The April 13, 2021, revision does not include substantive changes to Rule .0912 but includes minor grammatical edits and updates the formatting of a rule reference. These changes clarify but do not change the meaning of the previously SIP-approved version of the rule.

The State of North Carolina originally adopted Rule .0912 in 1979. EPA most recently approved amendments to the state rule in North Carolina's SIP on May 9, 2013. See 78 FR 27065. EPA is proposing to approve the April 13, 2021, updates to Rule .0912 because, as minor, non-substantive changes, they will not impact air quality and thus they will not interfere with any applicable CAA requirements.

g. Rule .0918, Can Coating

Rule .0918 outlines VOC-related provisions for can coating operations in North Carolina. The April 13, 2021, revision does not include substantive changes to Rule .0918 but includes minor administrative, grammatical, and wording edits and updates the formatting of a rule reference. Also, Rule .0918 is revised to limit the applicability of Rule .0918(d) to sources controlling VOC prior to July 1, 2000, to reflect that, while Rule .0918 already references Rule .0518, Rule .0518 was repealed on July 1, 2000. These changes clarify but do not change the meaning of the previously SIP-approved version of the rule.

The State of North Carolina originally adopted Rule .0918 in 1979. EPA most recently approved amendments to the state rule in North Carolina's SIP on August 1, 1997. See 62 FR 41277. EPA is proposing to approve the April 13, 2021, updates to Rule .0918 because, as minor, non-substantive changes, they will not impact air quality and thus they will not interfere with any applicable CAA requirements.

h. Rule .0919, Coil Coating

Rule .0919 outlines VOC-related provisions for coil coating operations in North Carolina. The April 13, 2021, revision does not include substantive changes to Rule .0919 but includes minor administrative and clarifying word changes, e.g., a change to clarify that Rule .0919 applies to VOC that come from coating applicators. Also, Rule .0919 is revised to limit the applicability of Rule .0919(d) to sources controlling VOC prior to July 1, 2000, to reflect that, while Rule .0919 already references Rule .0518, Rule .0518 was repealed on July 1, 2000. These changes clarify but do not change the meaning of the previously SIP-approved version of the rule.

The State of North Carolina originally adopted Rule .0919 in 1979. EPA most recently approved amendments to the state rule in North Carolina's SIP on August 1, 1997. See 62 FR 41277. EPA is proposing to approve the April 13, 2021, updates to Rule .0919 because, as minor, non-substantive changes, they will not impact air quality and thus they will not interfere with any applicable CAA requirements.

i. Rule .0922, Metal Furniture Coatings

Rule .0922 outlines VOC-related provisions for metal furniture coating operations in North Carolina. The April 13, 2021, revision does not include substantive changes to Rule .0922 but includes minor administrative and grammatical edits, updates the formatting of rule references, and updates references to federal regulations. These changes clarify but do not change the meaning of the previously SIP-approved version of the rule.

The State of North Carolina originally adopted Rule .0922 in 1979. EPA most recently approved amendments to the state rule in North Carolina's SIP on May 9, 2013. See 78 FR 27065. EPA is proposing to approve the April 13, 2021, updates to Rule .0922 because, as minor, non-substantive changes, they will not impact air quality and thus they will not interfere with any applicable CAA requirements.

j. Rule .0923, Surface Coating of Large Appliance Parts

Rule .0923 outlines VOC-related provisions for surface coating operations for large appliance parts in North Carolina. The April 13, 2021, revision does not include substantive changes to Rule .0923 but includes minor administrative and grammatical edits, updates the formatting of rule references, and updates references to federal regulations. These changes clarify but do not change the meaning of the previously SIP-approved version of the rule.

The State of North Carolina originally adopted Rule .0923 in 1979. EPA most recently approved amendments to the state rule in North Carolina's SIP on May 9, 2013. See 78 FR 27065. EPA is proposing to approve the April 13, 2021, updates to Rule .0923 because, as minor, non-substantive changes, they will not impact air quality and thus they will not interfere with any applicable CAA requirements.

k. Rule .0924, Magnet Wire Coating

Rule .0924 outlines VOC-related provisions for magnet wire coating operations in North Carolina. The April 13, 2021, revision does not include substantive changes to Rule .0924 but includes minor administrative and clarifying word changes, e.g., a change clarifies that Rule .0924 applies to VOC from the oven(s) of magnet wire coating operations. Also, Rule .0924 is revised to limit Rule .0924(d) to sources controlling VOC prior to July 1, 2000, to reflect that, while Rule .0924 already references Rule .0518, Rule .0518 was repealed July 1, 2000. These changes clarify but do not change the meaning of the previously SIP-approved version of the rule.

The State of North Carolina originally adopted Rule .0924 in 1979. EPA most recently approved amendments to the state rule in North Carolina's SIP on August 1, 1997. See 62 FR 41277. EPA is proposing to approve the April 13, 2021, updates to Rule .0924 because, as minor, non-substantive changes, they will not impact air quality and thus they will not interfere with any applicable CAA requirements.

l. Rule .0925, Petroleum Liquid Storage in Fixed Roof Tanks

Rule .0925 outlines VOC-related provisions for petroleum liquid storage in fixed roof tanks in North Carolina. The April 13, 2021, revision does not include substantive changes to Rule .0925 but makes minor administrative, grammatical, and wording edits, technical corrections such as changing vapor pressure “psia” to “pounds per square inch,” and updates to the formatting of rule references. These changes clarify but do not change the meaning of the previously SIP-approved version of the rule.

The State of North Carolina originally adopted Rule .0925 in 1979. EPA most recently approved amendments to the state rule in North Carolina's SIP on June 23, 1994. See 59 FR 32362. EPA is proposing to approve the April 13, 2021, updates to Rule .0925 because, as minor, non-substantive changes, they will not impact air quality and thus they will not interfere with any applicable CAA requirements.

m. Rule .0928, Gasoline Service Stations Stage 1

Rule .0928 outlines VOC-related provisions for gasoline service stations stage 1 controls in North Carolina. The April 13, 2021, revision does not include substantive changes to Rule .0928 but makes minor administrative and grammatical edits, as well as technical corrections such as changing Reid vapor pressure “psia” to “pounds per square inch,” changing references to “tank trucks or trailers” to “cargo tanks” which corresponds to the addition of the definition of “cargo tank” in Rule .0926,⁷ and changing “Dual point system” to “Dual point vapor recovery system.” Changes to Rule .0928 also alphabetize definitions and update the formatting of rule references. These changes clarify but do not change the meaning of the previously SIP-approved version of the rule.

⁷ See n.4.

The State of North Carolina originally adopted Rule .0928 in 1979. EPA most recently approved amendments to the state rule in North Carolina's SIP on August 1, 1997. See 62 FR 41277. EPA is proposing to approve the April 13, 2021, updates to Rule .0928 because, as minor, non-substantive changes, they will not impact air quality and thus they will not interfere with any applicable CAA requirements.

n. Rule .0930, Solvent Metal Cleaning

Rule .0930 outlines VOC-related provisions for solvent metal cleaning in North Carolina. The April 13, 2021, revision does not include substantive changes to Rule .0930 but includes minor administrative and grammatical edits and updates the formatting of rule references. These changes clarify but do not change the meaning of the previously SIP-approved version of the rule.

The State of North Carolina originally adopted Rule .0930 in 1979. EPA most recently approved amendments to the state rule in North Carolina's SIP on May 9, 2013. See 78 FR 27065. EPA is proposing to approve the April 13, 2021, updates to Rule .0930 because, as minor, non-substantive changes, they will not impact air quality and thus they will not interfere with any applicable CAA requirements.

o. Rule .0931, Cutback Asphalt

Rule .0931 outlines VOC-related provisions for cutback asphalt in North Carolina. The April 13, 2021, revision includes substantive and non-substantive changes to Rule .0931. The substantive changes include adding paving roads, sidewalks, airfields, runways, taxiways, and parking aprons to the list of applicable purposes of the manufacture and use of cutback asphalts. The substantive changes also include the removal of an exclusion for cutback asphalt used for a tack coat for the purpose of patch work not to exceed 1672 square meters (2000 square yards). These substantive changes are approvable because they are considered SIP-strengthening. The non-substantive changes are minor administrative and grammatical edits including the removal of the definition of “Emulsified asphalt” (a term which does not appear elsewhere in Rule .0931 and thus seemingly need not be defined) and a minor technical clarification specifying that the Federal Aviation Administration (FAA) Weather Station referenced in paragraph (c) is the FAA Surface Weather Observation Station. These changes clarify and strengthen the previously SIP-approved version of the rule.

The State of North Carolina originally adopted Rule .0931 in 1979. EPA most recently approved amendments to the state rule in North Carolina's SIP on June 23, 1994. See 59 FR 32362. EPA is proposing to approve the April 13, 2021, updates to Rule .0931 because both the substantive and minor, non-substantive changes will not adversely impact air quality and thus will not interfere with any applicable CAA requirements.

p. Rule .0933, Petroleum Liquid Storage in External Floating Roof Tanks

Rule .0933 outlines VOC-related provisions for petroleum liquid storage in external floating roof tanks in North Carolina. The April 13, 2021, revision does not include substantive changes to Rule .0933 but includes minor administrative and grammatical edits, updates the formatting of rule references, and clarifies that the routine visual inspections referenced in paragraph (d) are done to verify the conditions of the seal. These changes clarify but do not change the meaning of the previously SIP-approved version of the rule.

The State of North Carolina originally adopted Rule .0933 in 1980. EPA most recently approved amendments to the state rule in North Carolina's SIP on May 9, 2013. See 78 FR 27065. EPA is proposing to approve the April 13, 2021, updates to Rule .0933 because, as minor, non-substantive changes, they will not impact air quality and thus they will not interfere with any applicable CAA requirements.

q. Rule .0935, Factory Surface Coating of Flat Wood Paneling

Rule .0935 outlines VOC-related provisions for factory surface coating of flat wood paneling operations in North Carolina. The April 13, 2021, revision does not include substantive changes to Rule .0935 but includes minor administrative and grammatical edits and updates the formatting of rule references. These changes clarify but do not change the meaning of the previously SIP-approved version of the rule.

The State of North Carolina originally adopted Rule .0935 in 1980. EPA most recently approved amendments to the state rule in North Carolina's SIP on May 9, 2013. See 78 FR 27065. EPA is proposing to approve the April 13, 2021, updates to Rule .0935 because, as minor, non-substantive changes, they will not impact air quality and thus they will not interfere with any applicable CAA requirements.

r. Rule .0937, Manufacture of Pneumatic Rubber Tires

Rule .0937 outlines VOC-related provisions for manufacture of pneumatic rubber tires in North Carolina. The April 13, 2021, revision does not include substantive changes to Rule .0937 but includes minor administrative and grammatical edits. These changes clarify but do not change the meaning of the previously SIP-approved version of the rule.

The State of North Carolina originally adopted Rule .0937 in 1980. EPA most recently approved amendments to the state rule in North Carolina's SIP on August 1, 1997. See 62 FR 41277. EPA is proposing to approve the April 13, 2021, updates to Rule .0937 because, as minor, non-substantive changes, they will not impact air quality and thus they will not interfere with any applicable CAA requirements.

s. Rule .0943, Synthetic Organic Chemical and Polymer Manufacturing

Rule .0943 outlines VOC-related provisions for synthetic organic chemical and polymer manufacturing in North Carolina. The April 13, 2021, revision includes mostly non-substantive changes to Rule .0943, such as minor administrative and grammatical edits and updates to the formatting of rule references, which clarify but do not change the meaning of the previously SIP-approved version of the rule. The SIP revision also includes a substantive, SIP-strengthening change: in Rule .0943(i), the change from stating that the Director “shall” allow less frequent emissions monitoring to stating that the Director “may” allow it.

The State of North Carolina originally adopted Rule .0943 in 1985. EPA most recently approved amendments to the state rule in North Carolina's SIP on May 9, 2013. See 78 FR 27065. EPA is proposing to approve the April 13, 2021, updates to Rule .0943 because, as minor, non-substantive changes or strengthening changes, they will not negatively impact air quality and thus they will not interfere with any applicable CAA requirements.

t. Rule .0944, Manufacture of Polyethylene: Polypropylene and Polystyrene

Rule .0944 outlines VOC-related provisions for manufacture of polyethylene (polypropylene and polystyrene) in North Carolina. The April 13, 2021, revision does not include substantive changes to Rule .0944 but includes minor administrative and grammatical edits and updates the formatting of rule references. These changes clarify but do not change the meaning of the previously SIP-approved version of the rule.

The State of North Carolina originally adopted Rule .0944 in 1985. EPA most recently approved amendments to the state rule in North Carolina's SIP on November 19, 1986. See 51 FR 41786. EPA is proposing to approve the April 13, 2021, updates to Rule .0944 because, as minor, non-substantive changes, they will not impact air quality and thus they will not interfere with any applicable CAA requirements.

u. Rule .0945, Petroleum Dry Cleaning

Rule .0945 outlines VOC-related provisions for petroleum dry cleaning in North Carolina. The April 13, 2021, revision includes mostly non-substantive changes to Rule .0945, such as minor administrative and grammatical edits and updates to the formatting of rule references, which clarify but do not change the meaning of the previously SIP-approved version of the rule. The SIP revision also includes a substantive, SIP-strengthening change: in Rule .0945(g), adding a retention requirement for records of compliance tests.

The State of North Carolina originally adopted Rule .0945 in 1985. EPA most recently approved amendments to the state rule in North Carolina's SIP on May 9, 2013. See 78 FR 27065. EPA is proposing to approve the April 13, 2021, updates to Rule .0945 because, as minor, non-substantive changes or strengthening changes, they will not negatively impact air quality and thus they will not interfere with any applicable CAA requirements.

v. Rule .0947, Manufacture of Synthesized Pharmaceutical Products

Rule .0947 outlines VOC-related provisions for manufacture of synthesized pharmaceutical products in North Carolina. The April 13, 2021, revision does not include substantive changes to Rule .0947 but includes minor administrative and grammatical edits, updates the formatting of rule references and clarifies in paragraph (c) when controlling VOC emissions from synthesized pharmaceutical products manufacturing facility storage tanks that pressure/vacuum conservation tanks shall be set at plus or minus 0.8 inches of water instead of set at 0.8 inches of water. These changes clarify but do not change the meaning of the previously SIP-approved version of the rule.

The State of North Carolina originally adopted Rule .0947 in 1994. EPA most recently approved amendments to the state rule in North Carolina's SIP on May 5, 1995. See 60 FR 22283. EPA is proposing to approve the April 13, 2021, updates to Rule .0947 because, as minor, non-substantive changes, they will not impact air quality and thus they will not interfere with any applicable CAA requirements.

w. Rule .0948, VOC Emissions from Transfer Operations

Rule .0948 outlines provisions for VOC emissions from transfer operations in North Carolina. The April 13, 2021, revision does not include substantive changes to Rule .0948 but makes minor administrative and grammatical edits such as changing “tank trucks, trailers” to “cargo tanks,” which corresponds to the addition of the definition of “cargo tank” in Rule .0926, and updates the formatting of rule references. These changes clarify but do not change the meaning of the previously SIP-approved version of the rule.

The State of North Carolina originally adopted Rule .0948 in 1994. EPA most recently approved amendments to the state rule in North Carolina's SIP on August 27, 2001. See 66 FR 34117. EPA is proposing to approve the April 13, 2021, updates to Rule .0948 because, as minor, non-substantive changes, they will not impact air quality and thus they will not interfere with any applicable CAA requirements.

x. Rule .0949, Storage of Miscellaneous Volatile Organic Compounds

Rule .0949 outlines provisions for storage of miscellaneous VOC in North Carolina. The April 13, 2021, revision does not include substantive changes to Rule .0949 but includes minor administrative and grammatical edits and updates the formatting of rule references. These changes clarify but do not change the meaning of the previously SIP-approved version of the rule.

The State of North Carolina originally adopted Rule .0949 in 1994. EPA most recently approved amendments to the state rule in North Carolina's SIP on August 27, 2001. See 66 FR 34117. EPA is proposing to approve the April 13, 2021, updates to Rule .0949 because, as minor, non-substantive changes, they will not impact air quality and thus they will not interfere with any applicable CAA requirements.

y. Rule .0951, RACT for Sources of Volatile Organic Compounds

Rule .0951 outlines provisions for RACT for sources of VOC in North Carolina. The April 13, 2021, revision does not include substantive changes to Rule .0951 but includes minor administrative and grammatical edits and updates the formatting of rule references. These changes clarify but do not change the meaning of the previously SIP-approved version of the rule.

The State of North Carolina originally adopted Rule .0951 in 1994. EPA most recently approved amendments to the state rule in North Carolina's SIP on May 9, 2013. See 78 FR 27065. EPA is proposing to approve the April 13, 2021, updates to Rule .0951 because, as minor, non-substantive changes, they will not impact air quality and thus they will not interfere with any applicable CAA requirements.

z. Rule .0955, Thread Bonding Manufacturing

Rule .0955 outlines VOC provisions for thread bonding manufacturing in North Carolina. The April 13, 2021, revision does not include substantive changes to Rule .0955 but includes minor administrative and grammatical edits and updates the formatting of rule references. These changes clarify but do not change the meaning of the previously SIP-approved version of the rule.

The State of North Carolina originally adopted Rule .0955 in 1995. EPA most recently approved amendments to the state rule in North Carolina's SIP on February 1, 1996. See 61 FR 3588. EPA is proposing to approve the April 13, 2021, updates to Rule .0955 because, as minor, non-substantive changes, they will not impact air quality and thus they will not interfere with any applicable CAA requirements.

aa. Rule .0956, Glass Christmas Ornament Manufacturing

Rule .0956 outlines VOC provisions glass Christmas ornament manufacturing in North Carolina. The April 13, 2021, revision does not include substantive changes to Rule .0956 but includes minor administrative and grammatical edits. These changes clarify but do not change the meaning of the previously SIP-approved version of the rule.

The State of North Carolina originally adopted Rule .0956 in 1995. EPA most recently approved amendments to the state rule in North Carolina's SIP on February 1, 1996. See 61 FR 54362. EPA is proposing to approve the April 13, 2021, updates to Rule .0956 because, as minor, non-substantive changes, they will not impact air quality and thus they will not interfere with any applicable CAA requirements.

bb. Rule .0957, Commercial Bakeries

Rule .0957 outlines VOC provisions at commercial bakeries in North Carolina. The April 13, 2021, revision does not include substantive changes to Rule .0957 but includes minor administrative and grammatical edits, updates the formatting of rule references, and clarifies that in paragraph (d) the reference to commercial baking ovens refers to ovens in commercial bakeries. These changes clarify but do not change the meaning of the previously SIP-approved version of the rule.

The State of North Carolina originally adopted Rule .0957 in 1995. EPA most recently approved amendments to the state rule in North Carolina's SIP on February 1, 1996. See 61 FR 3588. EPA is proposing to approve the April 13, 2021, updates to Rule .0957 because, as minor, non-substantive changes, they will not impact air quality and thus they will not interfere with any applicable CAA requirements.

cc. Rule .0961, Offset Lithographic Printing and Letterpress Printing

Rule .0961 outlines VOC-related provisions for offset lithographic printing and letterpress printing in North Carolina. The April 13, 2021, revision does not include substantive changes to Rule .0961 but makes minor administrative and wording changes, such as changing paragraph (h) to specify that alternative methods used to determine the VOC content must be consistent with 15A NCAC 02D .2602(h) and to specify that alternative methods used to determine the control efficiency by measuring volatile organic compounds at the control device inlet and outlet must be consistent with 15A NCAC 02D .2602(h). Changes to Rule .0961 also update the formatting of rule references.

The State of North Carolina originally adopted Rule .0961 in 2010. Rule .0961 was adopted to replace, in part, Rule .0936, Graphic Arts, which EPA removed from the SIP on May 9, 2013. See 78 FR 27065. EPA most recently approved amendments to the state rule (Rule .0961) in North Carolina's SIP on July 25, 2013. See 78 FR 44890. EPA is proposing to approve the April 13, 2021, updates to Rule .0961 because, as minor, non-substantive changes, they will not impact air quality and thus they will not interfere with any applicable CAA requirements.

dd. Rule .0962, Industrial Cleaning Solvents

Rule .0962 outlines VOC-related provisions for industrial cleaning solvents in North Carolina. The April 13, 2021, revision does not include substantive changes to Rule .0962 but makes minor administrative and wording changes, such as changing paragraph (c) to delete repealed Rules .0921, .0934, and .0936 ⁸ from the list of rules that are exempt from paragraph (e) as it relates to cleaning material used for cleaning operations, and changes to Rule .0962 also update the formatting of rule references.

⁸ Rules .0921, .0934, and .0936 were removed from the North Carolina SIP on May 9, 2013. See 78 FR 27065.

The State of North Carolina originally adopted Rule .0962 in 2010. EPA most recently approved amendments to the state rule in North Carolina's SIP on July 25, 2013. See 78 FR 44890. EPA is proposing to approve the April 13, 2021, updates to Rule .0962 because, as minor, non-substantive changes, they will not impact air quality and thus they will not interfere with any applicable CAA requirements.

ee. Rule .0963, Fiberglass Boat Manufacturing Materials

Rule .0963 outlines VOC-related provisions for fiberglass boat manufacturing materials in North Carolina. The April 13, 2021, revision does not include substantive changes to Rule .0963 but makes minor administrative and wording changes such clarifying in paragraph (k) that SCAQMD Method 312-91 was developed by the South Coast Air Quality Management District and describes where to find information on this method, and changes to Rule .0963 that update the formatting of rule references.

The State of North Carolina originally adopted Rule .0963 in 2010. EPA most recently approved amendments to the state rule in North Carolina's SIP on May 9, 2013. See 78 FR 27065. EPA is proposing to approve the April 13, 2021, updates to Rule .0963 because, as minor, non-substantive changes, they will not impact air quality and thus they will not interfere with any applicable CAA requirements.

ff. Rule .0964, Miscellaneous Industrial Adhesives

Rule .0964 outlines VOC-related provisions for miscellaneous industrial adhesives in North Carolina. The April 13, 2021, revision does not include substantive changes to Rule .0964 but makes minor administrative and wording changes such as, in paragraph (b), the deletion of the exemption from control of VOC emissions for miscellaneous industrial adhesives product categories covered by repealed Rules .0921, .0934, and .0936,⁹ and changes to Rule .0964 that update the formatting of rule references.

⁹ Id.

The State of North Carolina originally adopted Rule .0964 in 2010. EPA most recently approved amendments to the state rule in North Carolina's SIP on May 9, 2013. See 78 FR 27065. EPA is proposing to approve the April 13, 2021, updates to Rule .0964 because, as minor, non-substantive changes, they will not impact air quality and thus they will not interfere with any applicable CAA requirements.

gg. Rule .0965, Flexible Package Printing

Rule .0965 outlines VOC-related provisions for flexible package printing operations in North Carolina. The April 13, 2021, revision does not include substantive changes to Rule .0965 but includes minor administrative and wording changes and updates the formatting of rule references.

The State of North Carolina originally adopted Rule .0965 in 2010. Rule .0965 was adopted to replace, in part, Rule .0936, Graphic Arts, which EPA removed from the SIP on May 9, 2013, which is also when EPA most recently approved amendments to the state rule (Rule .0965) in North Carolina's SIP. See 78 FR 27065. EPA is proposing to approve the April 13, 2021, updates to Rule .0965 because, as minor, non-substantive changes, they will not impact air quality and thus they will not interfere with any applicable CAA requirements.

hh. Rule .0966, Paper, Film and Foil Coatings

Rule .0966 outlines VOC-related provisions for paper, film, and foil coating operations in North Carolina. The April 13, 2021, revision does not include substantive changes to Rule .0966 but includes minor administrative and wording changes and updates the formatting of rule references.

The State of North Carolina originally adopted Rule .0966 in 2010. Rule .0966 was adopted to replace, in part, Rule .0920, Paper Coatings, which EPA removed from the SIP on May 9, 2013, which is also when EPA most recently approved amendments to the state rule (Rule .0966) in North Carolina's SIP. See 78 FR 27065. EPA is proposing to approve the April 13, 2021, updates to Rule .0966 because, as minor, non-substantive changes, they will not impact air quality and thus they will not interfere with any applicable CAA requirements.

ii. Rule .0967, Miscellaneous Metal and Plastic Parts Coatings

Rule .0967 outlines VOC-related provisions for miscellaneous metal and plastic parts coating operations in North Carolina. The April 13, 2021, revision does not include substantive changes to Rule .0967 but makes minor administrative and wording changes such as, in paragraph (c), the deletion of the exemption from this rule for sources covered by repealed Rules .0921 and .0936,¹⁰ and changes to Rule .0967 that update the formatting of rule references.

¹⁰ Rules .0921 and .0936 were repealed from the North Carolina SIP on May 9, 2013 (See 78 FR 27065).

The State of North Carolina originally adopted Rule .0967 in 2010. EPA most recently approved amendments to the state rule in North Carolina's SIP on May 9, 2013. See 78 FR 27065. EPA is proposing to approve the April 13, 2021, updates to Rule .0967 because, as minor, non-substantive changes, they will not impact air quality and thus they will not interfere with any applicable CAA requirements.

jj. Rule .0968, Automobile and Light Duty Truck Assembly Coatings

Rule .0968 outlines VOC-related provisions for automobile and light duty assembly coating operations in North Carolina. The April 13, 2021, revision does not include substantive changes to Rule .0968 but updates rule references and/or the formatting thereof. For example, paragraph (a) updates the reference for Automobile Topcoat Protocol from EPA-450/3-88-018 to EPA-453/R-08-002 or 40 CFR part 60, subpart MM. Also, changes to paragraph (d) clarify that the VOC emission limit is in grams of VOC per liter of coating excluding water and exempt compounds, as applied.

The State of North Carolina originally adopted Rule .0968 in 2010. EPA most recently approved amendments to the state rule in North Carolina's SIP on May 9, 2013. See 78 FR 27065. EPA is proposing to approve the April 13, 2021, updates to Rule .0968 because, as minor, non-substantive changes, they will not impact air quality and thus they will not interfere with any applicable CAA requirements.

III. Incorporation by Reference

In this document, EPA is proposing to include in a final EPA rule regulatory text that includes incorporation by reference. In accordance with requirements of 1 CFR 51.5, EPA is proposing to incorporate by reference the North Carolina rules discussed in Section II. These regulations were state effective on November 1, 2020. EPA has made, and will continue to make, these materials generally available through www.regulations.gov and at the EPA Region 4 office (please contact the person identified in the FOR FURTHER INFORMATION CONTACT section of this preamble for more information).

IV. Proposed Action

EPA is proposing to approve the April 13, 2021, SIP revision to incorporate various changes to North Carolina's VOC air provisions into the SIP. Specifically, EPA is proposing to approve various ministerial and minor changes to language and other clarifying changes throughout North Carolina's rules in 02D Section .0900, Volatile Organic Compounds. EPA is proposing to approve these changes for the reasons discussed above.

V. Statutory and Executive Order Reviews

Under the Clean Air Act, the Administrator is required to approve a SIP submission that complies with the provisions of the Clean Air Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001); and

• Is not subject to requirements of Section 12(d) of the National Technology Transfer and Advancement Act of 1995 (15 U.S.C. 272 note) because application of those requirements would be inconsistent with the Clean Air Act;

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

Executive Order 12898 (Federal Actions To Address Environmental Justice in Minority Populations and Low-Income Populations, 59 FR 7629, Feb. 16, 1994) directs Federal agencies to identify and address “disproportionately high and adverse human health or environmental effects” of their actions on minority populations and low-income populations to the greatest extent practicable and permitted by law. EPA defines environmental justice (EJ) as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

The NCDAQ did not evaluate environmental justice considerations as part of its SIP submittal; the CAA and applicable implementing regulations neither prohibit nor require such an evaluation. EPA did not perform an EJ analysis and did not consider EJ in this action. Due to the nature of the action being taken here, this action is expected to have a neutral to positive impact on the air quality of the affected area. Consideration of EJ is not required as part of this action, and there is no information in the record inconsistent with the stated goal of E.O. 12898 of achieving environmental justice for people of color, low-income populations, and Indigenous peoples.

List of Subjects in 40 CFR Part 52

Environmental protection, Air pollution control, Carbon monoxide, Incorporation by reference, Intergovernmental relations, Nitrogen dioxide, Ozone, Reporting and recordkeeping requirements, Volatile organic compounds.

Authority: 42 U.S.C. 7401 et seq.

Dated: June 6, 2023.
Jeaneanne Gettle,
Acting Regional Administrator, Region 4.

[FR Doc. 2023-12581 Filed 6-12-23; 8:45 am]

BILLING CODE 6560-50-P